DEPARTMENT OF DEFENSE

GENERAL SERVICES ADMINISTRATION

NATIONAL AERONAUTICS AND SPACE ADMINISTRATION

48 CFR Parts 19, 42, and 52

[FAC 2005-56; Item VIII; Docket 2012-0079; Sequence 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective Date: March 2, 2012.

FOR FURTHER INFORMATION CONTACT: The Regulatory Secretariat, 1275 First Street NE., 7th Floor, Washington, DC 20417, 202-501-4755, for information pertaining to status or publication schedules. Please cite FAC 2005-56, Technical Amendments.

SUPPLEMENTARY INFORMATION: In order to update certain elements in 48 CFR parts 19, 42, and 52, this document makes editorial changes to the FAR.

List of Subjects in 48 CFR Parts 19, 42, and 52

Government procurement.

Dated: February 21, 2012.
Laura Auletta,
Director, Office of Governmentwide Acquisition Policy, Office of Acquisition Policy, Office of Governmentwide Policy.

Therefore, DoD, GSA, and NASA amend 48 CFR parts 19, 42, and 52 as set forth below:

1. The authority citation for 48 CFR parts 19, 42, and 52 continues to read as follows:

Authority: 40 U.S.C. 121(c); 10 U.S.C. chapter 137; and 42 U.S.C. 2473(c).

PART 19—SMALL BUSINESS PROGRAMS

19.812 [Amended]

2. Amend section 19.812 by removing from paragraph (a) “http://www.dcma.mil/casbook/casbook.htm” and adding “https://pubapp.dcma.mil/CASD/main.jsp” in its place.

PART 42—CONTRACT ADMINISTRATION AND AUDIT SERVICES

42.203 [Amended]

3. Amend section 42.203 by removing “http://www.dcma.mil/” and adding “https://pubapp.dcma.mil/CASD/main.jsp” in its place.

PART 52—SOLICITATION PROVISIONS AND CONTRACT CLAUSES

52.209-9 [Amended]

4. Amend 52.209-9 by removing Alternate I.

[FR Doc. 2012-4504 Filed 3-1-12; 8:45 am]

BILLING CODE 6820-EP-P